DEPARTMENT OF COMMERCE

Foreign-Trade Zones Board

[Docket 56-2010]

Foreign-Trade Zone 203—Moses Lake, WA; Application for Reorganization and Expansion Under Alternative Site Framework

An application has been submitted to the Foreign-Trade Zones (FTZ) Board (the Board) by the Port of Moses Lake Public Corporation, grantee of FTZ 203, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on September 23, 2010.

FTZ 203 was approved by the Board on October 18, 1994 (Board Order 702, 59 FR 54433, 10/31/94). The current zone project includes the following site: Site 1 (316 acres)—Port of Moses Lake Industrial Park, located within the Grant County International Airport complex, Moses Lake, Washington.

The grantee's proposed service area under the ASF would include all of Benton, Chelan, Columbia, Douglas, Franklin, Grant, Kittitas, Lincoln and Walla Walla Counties, as well as portions of Okanogan and Yakima Counties, Washington, as described in the application. If approved, the grantee would be able to serve sites throughout the service area based on companies' needs for FTZ designation. The proposed service area is within and adjacent to the Moses Lake Customs and Border Protection port of entry.

The applicant is requesting authority to reorganize its existing zone project to include the existing site as a “magnet” site. The ASF allows for the possible exemption of one magnet site from the “sunset” time limits that generally apply to sites under the ASF, and the applicant proposes that Site 1 be so exempted. The applicant is also requesting approval of the following initial “usage-driven” sites in Grant County: Proposed Site 2 (38 acres)—Zip Truck Line, Inc., 13957 Road 1.9 NE, Moses Lake; and, Proposed Site 3 (60 acres)—SGL Automotive Carbon Fibers, LLC, 8781 Randolph Road NE, Moses Lake. Because the ASF only pertains to establishing or reorganizing a general-purpose zone, the application would have no impact on FTZ 203's authorized subzone.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is November 29, 2010. Rebuttal comments in response to material submitted during the foregoing period may be submitted during the subsequent 15-day period to December 13, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: September 23, 2010.
Elizabeth Whiteman,
Acting Executive Secretary.

[FR Doc. 2010-24319 Filed 9-27-10; 8:45 am]

BILLING CODE 3510-DS-P